DEPARTMENT OF TRANSPORTATION

National Highway Traffic Safety Administration

[NHTSA 2011-0147]

Information Collection Activities: Submission for the Office of Management and Budget (OMB) Review; Request for Comment

AGENCY: National Highway Traffic Safety Administration (NHTSA), DOT.

ACTION: Notice of the OMB review of information collection and solicitation of public comment.

SUMMARY: In compliance with the Paperwork Reduction Act of 1995 (44 U.S.C. chapter 35), this notice announces that the Information Collection Request (ICR) abstracted below will be submitted to the Office of Management and Budget (OMB) for review. The ICR describes the nature of the information collection and its expected burden. A Federal Register notice with a 60-day comment period soliciting public comments on the following information collection was published on December 22, 2010 (75 FR 80542).

DATES: Submit comments to the Office of Management and Budget (OMB) on or before November 7, 2011.

FOR FURTHER INFORMATION CONTACT: Walter Culbreath and Stephanie Purnell, Office of the Chief Information Officer (NPO 400), National Highway Traffic Safety Administration, W51-204, Department of Transportation, 1200 New Jersey Avenue, SE., Washington, DC 20590, (202) 366-1566.

SUPPLEMENTARY INFORMATION: Title: Generic Clearance for the Collection of Qualitative Feedback on Agency Service Delivery.

Form No.: None.

Type of Review: New information request.

Respondents: State and local agencies, general public and stake holders, safety organizations and advocate groups.

Estimated Number of Respondents: 113,582.

Estimated Time per Response: Range from 10-120 minutes.

Total Estimated Annual Burden Hours: 20,204.

Frequency of Collection: Generally, on an annual basis.

Abstract: NHTSA develops, promotes and implements effective educational, engineering, and enforcement programs toward ending preventable tragedies and reducing economic costs associated with vehicle use and highway travel. Executive Order 12862 mandates that agencies survey their customers to identify the kind and quality of services they want and their level of satisfaction with existing services. Other requirements include the Governmental Performance and Results Act (GPRA) of 1993 which promotes a new focus on results, service quality, and customer satisfaction. As NHTSA continuously works to ensure that its programs are effective and meet its customer's needs, NHTSA seeks to obtain OMB approval of a generic clearance to collect qualitative feedback from its customers on NHTSA service delivery. Surveys will be undertaken to understand customer needs, satisfaction with products and services, perspectives on highway safety problems, forecast safety trends and achieve the agency's goals. This feedback will provide insight into customer or stakeholder perception, provide an early warning of issues with products or services, and focus attention on areas of communication in operations that might improve the delivery of products or services.

ADDRESSES: Send comments regarding the burden estimate, including suggestions for reducing the burden, to the Office of Management and Budget (OMB), Attention: Desk Officer for Department of Transportation, National Highway Traffic Safety Administration, Office of Information and Regulatory Affairs, Office of Management and Budget, 725 17th Street, NW., Docket Library, Room 10102, Washington, DC 20503, or by e-mail at oira_submission@omb.eop.gov, or fax: 202-395-5806.

Comments Are Invited On: Whether the proposed collection of information is necessary for the proper performance of the functions of the Department of Transportation, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication of this notice.

Issued in Washington, DC, on September 29, 2011.
Walter Bohorfoush,
Director, Office of Systems Integration.

[FR Doc. 2011-25775 Filed 10-5-11; 8:45 am]

BILLING CODE 4910-59-P